DEPARTMENT OF COMMERCE

National Institute of Standards and Technology

A Public Forum on Weighing Practices and Use of Stored Tare in Weighing Trucks Used for Commercial Purposes

AGENCY: National Institute of Standards and Technology, Commerce.

ACTION: Announcement of a public forum on weighing practices and the use of stored tare with the weighing of trucks for commercial purposes.

SUMMARY: Notice is hereby given that the Public Forum on Weighing Practices and the Use of Stored Tare with the Weighing of Trucks for Commercial Purposes will be held September 28, 2004, at the Department of Commerce, Washington, DC. This meeting is open to industry representatives, consumers, scale-owners-users, exporters, importers, retailers, Federal and State agencies, and other interested parties. Meeting registration can be found on the National Institute of Standards, Weights and Measures Web site (http://www.nist.gov/owm).

DATES: September 28, 2004.

ADDRESSES: The forum will be held at Department of Commerce, Herbert C. Hoover Building, 14th and Constitution Avenue, NW., Washington, DC 20230. Written correspondence can be directed to the NIST Weights and Measures Division, 100 Bureau Drive, Stop 2600, Gaithersburg, MD 20899-2600, or via e-mail at owm@nist.gov.

FOR FURTHER INFORMATION CONTACT: G. Thomas Coleman, Weights and Measures Division, 100 Bureau Drive, Stop 2600, Gaithersburg, MD 20899-2600, or via e-mail at t.coleman@nist.gov, or fax at 301-926-0647.

SUPPLEMENTARY INFORMATION:

Purpose of Forum

To review State laws and regulations relating to commercial transactions concerning net weight and scale accuracy and use requirements as they relate to vehicle tare weights stored in computer memory.

To examine weights and measures laws which require commercial transactions to be computed on the basis of net weight. There are numerous weighing applications (e.g., solid waste disposal and landfills, quarries, mining, agriculture, household moving and others) where net weights of commodities and/or service charges are determined using vehicle scales. Most commercial vehicle scales are required to be accurate to approximately ±0.2 percent (e.g., ±160 lbs at 80,000 lb), however, stored tare weights have been found to have errors of several thousand pounds. This forum will discuss the issues and alternatives that should be considered in an effort to balance buyer and seller interests in the accuracy of these transactions.

To provide an opportunity for industry representatives, consumers, scale-owners-users, exporters, importers, retailers, Federal and State agencies, and other interested parties to understand how state and local weights and measures officials supervise the weighing of trucks and other vehicles to ensure accuracy and equity in the marketplace.

To pursue partners to work with NIST, along with state and local weights and measures officials, in a national working group to identify industry and regulatory concerns (e.g., economic impact of incorrect weights versus the cost, in terms of time and money to weigh vehicles for both gross and tare weight).

Another purpose is to solicit industry cooperation in reducing weighing inaccuracies through the identification and use of good weighing practices.

Participation—Advance Registration Required

The forum is free and open to the public, but space is limited. Advance registration is required for Department of Commerce security purposes and to ensure that all participants receive a name badge (required to obtain access to the building) and handout materials. The deadline for registration is 5 p.m. EDT on September 21, 2004.

Dated: August 31, 2004.
Hratch G. Semerjian,
Acting Director.

[FR Doc. 04-20341 Filed 9-7-04; 8:45 am]

BILLING CODE 3510-13-P